DEPARTMENT OF ENERGY

Federal Energy Regulatory Commission

[Docket No. CP08-474-000]

Texas Gas Transmission, LLC; Notice of Request Under Blanket Authorization

September 22, 2008.

Take notice that on September 18, 2008, Texas Gas Transmission, LLC (Texas Gas), 417 3800 Frederica Street, Owensboro, Kentucky 42301, filed in Docket No. CP08-474-000, a prior notice request pursuant to sections 157.205 and 157.211 of the Federal Energy Regulatory Commission's regulations under the Natural Gas Act (NGA) and its blanket authority granted in Docket No. CP82-407-000 for authorization to construct, install, operate, and maintain a new delivery point to be located in Warren County, Ohio for Knox Energy Cooperative Association, Inc. (KECA), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

KECA has requested that Texas Gas provide the proposed delivery meter station in order for KECA to provide natural gas service to the Warren County Correctional Facility which is currently being served by Duke Energy Ohio, Inc., a local distribution company. Texas Gas estimates that it would cost $561,414 to construct the proposed delivery meter station with KECA and all costs associated with such facilities would be reimbursed by KECA.

Any questions regarding the application should be directed to Kathy D. Fort, Manager of Certificates and Tariffs, Texas Gas Transmission, LLC, 3800 Frederica Street, Owensboro, Kentucky 42301, or call (270) 688-6825, or fax (270) 688-5871, or e-mail kathy.fort@bwpmlp.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Nathaniel J. Davis, Sr.,
Deputy Secretary.

[FR Doc. E8-22857 Filed 9-29-08; 8:45 am]

BILLING CODE 6717-01-P